DEPARTMENT OF THE INTERIOR

National Park Service

[NPS-WASO-NAGPRA-22482; PPWOCRADN0-PCU00RP14.R50000]

Notice of Inventory Completion: Fowler Museum at the University of California Los Angeles, Los Angeles, CA

AGENCY: National Park Service, Interior.

ACTION: Notice.

SUMMARY: The Fowler Museum at the University of California Los Angeles (UCLA) has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Fowler Museum at UCLA. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Fowler Museum at UCLA at the address in this notice by January 9, 2017.

ADDRESSES: Wendy G. Teeter, Ph.D., Fowler Museum at UCLA, Box 951549, Los Angeles, CA 90095-1549, telephone (310) 825-1864, email wteeter@arts.ucla.edu.

SUPPLEMENTARY INFORMATION: Notice is here given in accordance with the Native American Graves Protection and Repatriation Act (NAGPRA), 25 U.S.C. 3003, of the completion of an inventory of human remains and associated funerary objects under the control of the Fowler Museum at UCLA, Los Angeles, CA. The human remains and associated funerary objects were removed from Ventura County, California.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Fowler Museum at UCLA professional staff in consultation with representatives of Santa Ynez Band of Chumash Mission Indians of the Santa Ynez Reservation, California; and the following non-federally recognized Indian groups: Gabrieleno/Tongva Tribal Council; San Gabriel Band of Mission Indians; Traditional Council of Pimu (Ti'at Society); the Gabrielino/Tongva Indians of California Tribe; Gabrielino/Tongva Nation; Barbareno/Ventureno Band of Mission Indians; Fernandeño Tataviam Band of Mission Indians; Barbareno Chumash Council; Coastal Band of the Chumash Nation; and Northern Chumash Tribe.

History and Description of the Remains and Associated Funerary Objects

In 1961, 1969, and 1970, human remains representing, at minimum, one individual were removed from CA-VEN-137 in Ventura County, CA. These human remains were part of a surface collection made by Thomas Blackburn involving Chester King, Nelson Leonard, and Clay Singer during a field project that surveyed over 32 archeological sites. A small collection was formed and curated at UCLA upon completion of the survey. No date was identified for the site other than it was part of a prehistoric complex. A field identified large mammal limb bone collected from the site was later identified as an extremely burned human femur shaft fragment. No known individuals were identified. No associated funerary objects are identified.

In 1978, human remains representing, at minimum, three individuals were removed from Lindero Canyon (CA-VEN-606) in Ventura County, CA. Collections from the site derive from a survey and excavation led by Dr. William Clewlow, Jr., during the North Ranch Inland Chumash research project. The second investigation was conducted the same year under the direction of Holly Love and Rheta Resnick. Excavations took place on land privately owned by the Prudential Insurance Company. The collections were curated at UCLA in 1979. The site has been dated to the Late Period, A.D. 1300-1650. Fragmentary human remains represent one adult of unknown sex and one infant of unknown sex. The last individual is likely a cremation; neither sex nor age could be determined. No known individuals were identified. The 17 associated funerary objects consist of two pieces and one bag of unmodified animal bone, eight pieces and one bag of stone flakes, one bag of charcoal fragments, one piece and one bag of shell fragments, and two ochre fragments.

The sites detailed in this notice have been identified through consultation to be within the traditional territory of the Chumash. These locations are consistent with ethnographic and historic documentation.

The Chumash territory, anthropologically defined first on the basis of linguistic similarities, and subsequently on broadly shared material and cultural traits, reaches from San Luis Obispo to Malibu on the coast, inland to the western edge of the San Joaquin Valley, to the edge of the San Fernando Valley, and includes the four Northern Channel Islands. The sites in this notice are located in Ventura County and fall within the geographical area identified as Chumash. Some consultants state that these areas were the responsibility of regional leaders, who were themselves organized into a pan-regional association of both political power and ceremonial knowledge. Further, these indigenous areas are identified by some consultants to be relational with clans, or associations of traditional practitioners of specific kinds of indigenous medicinal and ceremonial practices. Some consultants identified these clans as existing in the pre-contact period, and identified some as also existing in the present day. Other consultants do not recognize present-day geographical divisions to be related to clans of traditional practitioners. Ethnographic evidence suggests that the social and political organizations of the pre-contact Channel Islands were primarily at the village level, with a hereditary chief, in addition to many other specialists who wielded power.

The associated funerary objects are consistent with funerary objects placed by groups ancestral to the present-day Chumash people. The material culture of those earlier groups living in the geographical areas mentioned above is characterized by archeologists as having passed through developmental stages over the past 10,000 years. Many local archeologists assert that the changes in the material culture reflect evolving ecological adaptations and related changes in social organization of the same populations, and do not represent population displacements or movements. The same range of artifact types and materials were used from the early pre-contact period until historic times. Native consultants explicitly state that population mixing, which did occur on a small scale, would not alter the continuity of the shared group identities of people associated with specific locales. Based on this evidence, continuity of occupation by the Chumash people can be traced for all sites listed in this notice.

Determinations Made by the Fowler Museum at UCLA

Officials of the Fowler Museum at UCLA have determined that:

• Pursuant to 25 U.S.C. 3001(9), the human remains described in this notice represent the physical remains of 4 individuals of Native American ancestry.

• Pursuant to 25 U.S.C. 3001(3)(A), the 17 objects described in this notice are reasonably believed to have been placed with or near individual human remains at the time of death or later as part of the death rite or ceremony.

• Pursuant to 25 U.S.C. 3001(2), there is a relationship of shared group identity that can be reasonably traced between the Native American human remains and associated funerary objects and Santa Ynez Band of Chumash Mission Indians of the Santa Ynez Reservation, California.

Additional Requestors and Disposition

Lineal descendants or representatives of any Indian tribe or Native Hawaiian organization not identified in this notice that wish to request transfer of control of these human remains and associated funerary objects should submit a written request with information in support of the request to Wendy G. Teeter, Ph.D., Fowler Museum at UCLA, Box 951549, Los Angeles, CA 90095-1549, telephone (310) 825-1864, email wteeter@arts.ucla.edu, by January 9, 2017. After that date, if no additional requestors have come forward, transfer of control of the human remains and associated funerary objects to Santa Ynez Band of Chumash Mission Indians of the Santa Ynez Reservation, California may proceed.

The Fowler Museum is responsible for notifying the Santa Ynez Band of Chumash Mission Indians of the Santa Ynez Reservation, California that this notice has been published.

Dated: November 28, 2016.
Melanie O'Brien,
Manager, National NAGPRA Program.

[FR Doc. 2016-29534 Filed 12-8-16; 8:45 am]

BILLING CODE 4312-52-P